ENVIRONMENTAL PROTECTION AGENCY

[ER-FRL-6651-1]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in the Federal Register dated April 2, 2004 (69 FR 17403).

Draft EISs

ERP No. D-AFS-J65404-UT Rating EC2, Trout Slope West Timber Project, Harvesting Timber, Ashley National Forest, Vernal Ranger District, Uintah County, UT.

Summary: EPA expressed environmental concerns regarding direct and cumulative impacts to aquatic and terrestrial resources in the project area.

ERP No. D-AFS-J65406-MT Rating EC2, West Troy Project, Proposes Timber Harvesting, Natural Fuels Reduction Treatments, Pre-Commercial Thining, and Watershed Rehabilitation (Decommissioning) Work, Kootenai National Forest, Three River Ranger District, Lincoln County, MT.

Summary: While EPA supports the project purpose and need to manage vegetation for a fire-adapted ecosystem, EPA expressed concerns that necessary watershed restoration actions do not have guaranteed funding.

ERP No. D-AFS-J65409-MT Rating EC2, Lower Big Creek Project, To Implement Timber Harvest and Prescribed Burning, Kootenai National Forest Plan, Rexford Ranger District, Lincoln County, MT.

Summary: EPA expressed environmental concerns regarding impacts to water quality from potential sediment production and transport associated with tractor logging and associated road reconstruction. EPA also expressed concerns that there may not be adequate funding to implement road-related watershed restoration work.

ERP No. D-FHW-G40180-TX Rating EC2, Grand Parkway (State Highway TX-99) Segment F-2 from TX-249 to Interstate Highway (IH) 45 Construction of a New Location Facility, Right-of-Way Permit and U.S. Army COE Section 404 Permit, City of Houston, Harris County, TX.

Summary: EPA expressed environmental concerns relating to wetlands impacts/mitigation and air quality impacts.

ERP No. D-NOA-L91021-AK Rating EC2, Essential Fish Habitat Identification and Conservation, Implementation, North Pacific Fishery Management Council, Magnuson-Stevens Fishery Conservation and Management Act, AK.

Summary: EPA expressed concerns for rescinding Habitat Areas of Particular Concern. EPA requested additional information on an ecosystem approach for identifying Essential Fish Habitat, the potential for increasing the Observer Program and Environmental Justice/Tribal Consultation.

Final EISs

ERP No. F-AFS-J65268-CO, North Fork of the South Platte and the South Platte Rivers, Wild and Scenic River Study, To Determine their Suitability for Inclusion into the National Wild and Scenic Rivers System, Pike and San Isabel National Forests, Comache and Cimarron National Grasslands, Douglas, Jefferson, Park and Teller Counties, CO.

Summary: EPA expressed environmental concerns and recommended that the lead agency add specific protections in the Record of Decision to preserve the “free flowing” character and other “outstandingly remarkable values” until Wild and Scenic River designation decisions are made.

ERP No. F-AFS-L65385-WA, Stimson Access Project, To Access their Private Property through National Forest System Lands, Idaho Panhandle National Forests, Priest Lake Ranger District, Pend Oreille County, WA.

Summary: No formal comment letter was sent to the preparing agency.

ERP No. F-AFS-L65437-OR, Toolbox Fire Recovery Project, Promote the Recovery of the Toolbox Complex Fires of July 2002, Fremont-Winema National Forest, Silver Lake Ranger District, Lake County, OR.

Summary: No formal comment letter was sent to the preparing agency.

ERP No. F-COE-E39063-NC, Bogue Inlet Channel Erosion Response Project, Relocation of the Main Ebb Channel to Eliminate the Erosive Impact to the Town of Emerald Isle, Carteret and Onslow Counties, NC.

Summary: EPA continues to have environmental concerns about the proposal to establish a given channel alignment and beach profile in a dynamic near shore ecosystem.

ERP No. F-FHW-D40319-PA, Mon/Fayette Transportation Project, Improvements from PA-51 to I-376 in Monroeville and Pittsburg, Funding, U.S. Coast Guard Bridge Permit and US Army COE Section 404 Permit Issuance, Allegheny County, PA.

Summary: EPA continues to have environmental concerns relating to wetland impacts and open space habitat mitigation.

ERP No. F-IBR-K39081-CA, Freeport Regional Water Project, To Construct and Operate a Water Supply Project to Meet Regional Water Supply Needs, Sacramento County Water Agency (SCWA) and the East Bay Municipal Utility District (EBMUD), Alameda, Contra Costa, San Joaquin, Sacramento Counties, CA.

Summary: EPA expressed concerns regarding potential cumulative impacts to habitat, water quality, and water supply reliability. EPA requested additional information regarding the applicability of a Clean Water Act 404 Permit for impacts to wetlands.

ERP No. F-USA-G11042-LA, 2nd Armored Cavalry Regiment Transformation and Installation Mission Support, Joint Readiness Training Center (JRTC) Stryker Brigade Combat Team, Long-Term Military Training Use of Kisatchie National Forest Lands, Fort Polk, LA.

Summary: No formal comment letter was sent to the preparing agency.

ERP No. F-USN-K11108-CA, China Lake Naval Air Weapons Station, Proposed Military Operational Increases and Implementation of Associated Comprehensive Land Use and Integrated Natural Resources Management Plans, Located on the North and South Ranges, Inyo, Kern and San Bernardino Counties, CA.

Summary: No formal comment letter was sent to the preparing agency.

ERP No. FS-NOA-K91008-00, Pelagic Fisheries of the Western Pacific Region, Fishery Management Plan, Regulatory Amendment,Management Measures to Implement New Technologies for the Western Pacific Pelagic Longline Fisheries, Hawaii, American Samoa, Guam and Commonwealth of the Northern Mariana Island.

Summary: EPA supports the objectives of the proposed amendments to the FMP for Pelagic Fisheries, and has no objections to the proposed project.

Dated: May 4, 2004.
Ken Mittelholtz,
Environmental Protection Specialist, Office of Federal Activities.

[FR Doc. 04-10452 Filed 5-6-04; 8:45 am]

BILLING CODE 6560-50-P